DEPARTMENT OF EDUCATION

DEPARTMENT OF HEALTH AND HUMAN SERVICES

Applications for New Awards; Preschool Development Grants—Expansion Grants; Correction

AGENCIES: Department of Education and Department of Health and Human Services.

ACTION: Notice; correction.

Catalog of Federal Domestic Assistance (CFDA) Number: 84.419B.

SUMMARY: On August 18, 2014, the Departments of Education and Health and Human Services published in the Federal Register (79 FR 48874) a notice inviting applications for new awards for fiscal year 2014 for the Preschool Development Grants—Expansion Grants program. This notice corrects the Executive Summary Selection Criterion (A)(7)(b).

DATES: Effective September 18, 2014.

SUPPLEMENTARY INFORMATION:

Correction

In the Federal Register of August 18, 2014 (79 FR 48874), on page 48884, in the left-hand column under the selection criterion (A)(7)(b), the text of the selection criterion refers to “one or more” High-Need Communities. In order to align Selection Criterion (A)(7)(b) with Absolute Priority 1 and the introductory text to Selection Criterion (D), we correct the paragraph to read “two or more” High-Need Communities, as follows:

(b) Subgrants to Early Learning Providers to implement voluntary, High-Quality Preschool Programs for Eligible Children in two or more High-Need Communities, including how it will—

Program Authority: Sections 14005 and 14006 of the ARRA, as amended by section 1832(b) of division B of the Department of Defense and Full-Year Continuing Appropriations Act, 2011 (Pub. L. 112-10), the Department of Education Appropriations Act, 2012 (title III of division F of Pub. L. 112-74, the Consolidated Appropriations Act, 2012), and the Department of Education Appropriations Act, 2014 (title III of division H of Pub. L. 113-76, the Consolidated Appropriations Act, 2014).

FOR FURTHER INFORMATION CONTACT: Rebecca Marek, U.S. Department of Education, 400 Maryland Ave. SW., Room 3E344, Washington, DC 20202-6200. Telephone: 202-260-0968 or by email: PreschoolDevelopmentGrants.Competition@ed.gov.

If you use a telecommunications device for the deaf (TDD) or a text telephone (TTY), call the Federal Relay Service, toll free, at 1-800-877-8339.

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Deborah S. Delisle,
Assistant Secretary for Elementary and Secondary Education, U.S. Department of Education.
Mark H. Greenberg,
Acting Assistant Secretary for Children and Families, U.S. Department of Health and Human Services.

[FR Doc. 2014-22320 Filed 9-17-14; 8:45 am]

BILLING CODE 4000-01-P